Title 3—

The President

Proclamation 7638 of January 13, 2003

The Centennial of Korean Immigration to the United States

By the President of the United States of America

A Proclamation

From every corner of the world, immigrants have come to America to discover the promise of our Nation. On January 13, 1903, the first Korean immigrants to the United States arrived in Honolulu, Hawaii, on the SS Gaelic. Today, Korean Americans live throughout the United States, representing one of our largest Asian-American populations. As we commemorate the centennial anniversary of Korean immigration to the United States, we recognize the invaluable contributions of Korean Americans to our Nation's rich cultural diversity, economic strength, and proud heritage.

For the past century, Korean immigrants and their descendants have helped build America's prosperity, strengthened America's communities, and defended America's freedoms. Through their service in World War I, World War II, the Korean Conflict, the Vietnam War, and other wars, Korean Americans have served our Nation with honor and courage, upholding the values that make our country strong.

The American and Korean people share a love of freedom and a dedication to peace. The United States was the first Western country to sign a treaty of commerce and amity with Korea in 1882, promising “perpetual peace and friendship” between our nations. Since that time, the United States has built a strong friendship with Korea—a friendship based on our common commitment to human dignity, prosperity, and democracy. In the coming months, more than 1 million Korean Americans throughout our Nation will celebrate the 100th anniversary of the arrival of the first Korean immigrants to the United States. During this time, we acknowledge and commend Korean Americans for their distinguished achievements in all sectors of life and for their important role in building, defending, and sustaining the United States of America.

NOW, THEREFORE, I, GEORGE W. BUSH, President of the United States of America, by virtue of the authority vested in me by the Constitution and laws of the United States, do hereby proclaim January 13, 2003, as the Centennial of Korean Immigration to the United States. I call upon all Americans to observe the anniversary with appropriate programs, ceremonies, and activities honoring Korean immigrants and their descendants for their countless contributions to America.

IN WITNESS WHEREOF, I have hereunto set my hand this thirteenth day of January, in the year of our Lord two thousand three, and of the Independence of the United States of America the two hundred and twenty-seventh.

B

[FR Doc. 03-1079

Filed 1-14-03; 10:22 am]

Billing code 3195-01-P